DEPARTMENT OF COMMERCE

National Oceanic and Atmospheric Administration

[I.D. 101700F]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish and Monkfish Oversight Committees in November, 2000 to consider actions affecting New England fisheries in the exclusive economic zone (EEZ). Recommendations from these groups will be brought to the full Council for formal consideration and action, if appropriate.

DATES: The meetings will be held between Monday, November 6, 2000 and Wednesday, November 8, 2000. See SUPPLEMENTARY INFORMATION for specific dates and times.

ADDRESSES: The meetings will be held in Peabody, MA and Baltimore, MD. See SUPPLEMENTARY INFORMATION for specific locations.

FOR FURTHER INFORMATION CONTACT: Paul J. Howard, Executive Director, New England Fishery Management Council; (978) 465-0492.

SUPPLEMENTARY INFORMATION:

Meeting Dates and Agendas

Monday, November 6, 2000 at 9:30 a.m.—Groundfish Oversight Committee Meeting

Location: Peabody Marriott Hotel, 8A Centennial Drive, Peabody, MA 01960; telephone: 978-977-6478.

The Groundfish Oversight Committee will finalize its recommendations for management alternatives to be included in Amendment 13 to the Northeast Multispecies Fishery Management Plan (FMP). This will include recommendations on rebuilding programs, measures to address capacity issues, and the four broad approaches to management that are under consideration (status quo, adjustments to the status quo, area management, and sector allocation). The committees' recommendations will be reviewed by the Council at its November 14-16 meeting. After approval by the Council, the proposed alternatives will be analyzed and a draft Supplemental Environmental Impact Statement and public hearing document prepared. The committee will meet in a closed session to review advisory panel applications.

Wednesday, November 8, 2000 at 10:00 a.m.—Monkfish Oversight Committee Meeting

Location: Sheraton International Hotel at BWI Airport, 7032 Elm Road, Baltimore, MD 21240; telephone: (410) 691-9827.

The committee will review the Stock Assessment and Fishery Evaluation (SAFE) Report for 1999, including the Monkfish Monitoring Committee Report. Based on this review, the committee will develop recommendations to the Council for adjustments to the Monkfish Fishery Management Plan for the 2001 fishing year, in accordance with the framework adjustment procedures in the FMP. The committee will review the Monkfish Advisory Panel recommendations on trip limit options to address perceived inequities across fleet sectors, a range of alternatives for monkfish spawning area/time management, and on possible options for bycatch control and minimizing discards of monkfish in small mesh fisheries. The committee will also develop recommendations to the Council for research priorities under cooperative programs with the industry.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 18, 2000.
Bruce C. Morehead,
Acting Director, Office of Sustainable Fisheries, National Marine Fisheries Service.

[FR Doc. 00-27186 Filed 10-20-00; 8:45 am]

BILLING CODE: 3510-22 -S